DEPARTMENT OF DEFENSE

Department of the Army; Corps of Engineers

Deauthorization of Water Resources Projects

AGENCY: Army Corps of Engineers, DoD.

ACTION: Notice of correction.

SUMMARY: The U.S. Army Corps of Engineers published a notice in the Federal Register, 74 FR 126 E9-15663 (July 2, 2009) announcing projects deauthorized under Section 1001(b)(2) WRDA 1986, as amended. This correction notice clarifies the deauthorization related to the Reelfoot Lake-Lake No 9 project.

FOR FURTHER INFORMATION CONTACT: Mr. Joseph W. Aldridge, Headquarters, U.S. Army Corps of Engineers, Attention: CECW-IP, Washington, DC 20314-1000. Tel. (202) 761-4130 or joseph.w.aldridge@usace.army.mil.

CORRECTION: Correct the list in the Federal Register of July 2, 2009, in FR Doc. E9-15663, on page 31714, “Projects Deauthorized on 29 March 2009 Under Section 1001(B)(2) WRDA 1986, as Amended”, by amending the REELFOOT LAKE—LAKE NO 9, TN & KY project name to read REELFOOT LAKE—LAKE NO 9, TN & KY (UNCONSTRUCTED PORTIONS). The notice was intended to deauthorize only the unconstructed portions of this project. The constructed portions of Reelfoot Lake-Lake No 9, TN & KY remain authorized.

Authority: This notice is required by the Water Resources Development Act of 1986, Public Law 99-662, section 1001(c), 33 U.S.C. 579a(c).

Dated: July 21, 2016.
Approved by:
Jo-Ellen Darcy,
Assistant Secretary of the Army (Civil Works).

[FR Doc. 2016-19026 Filed 8-9-16; 8:45 am]

BILLING CODE 3720-58-P